DEPARTMENT OF ENERGY

Federal Energy Regulatory Commission

[Docket No. RP95-408-038]

Columbia Gas Transmission Corporation; Notice of Compliance Filing

December 21, 2000.

Take notice that on December 15, 2000, Columbia Gas Transmission Corporation (Columbia) tendered a filing in compliance with Stipulation II, Article III, Section F, of the settlement filed in Docket No. RP95-408 et al. approved on April 17, 1997 (79 FERC ¶ 61,044 (1997)) (Settlement).

In accordance with this provision, Columbia is required to share with its customers the gain or loss on the sale of certain gathering and products extraction facilities. On December 15, 1999, Columbia shared the initial gain on the disposition of its stranded gathering and products extraction facilities. In the instant filing, Columbia is filing to share an additional excess of $0.676. Columbia is also filing a report on its plan to dispose of its remaining gathering facilities as required under the terms of Stipulation II, Article III, Section F of the Settlement.

Columbia states further that copies of this filing have been mailed to all of its customers and affected state regulatory commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing maybe viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-33101 Filed 12-27-00; 8:45 am]

BILLING CODE 6717-01-M